DEPARTMENT OF THE TREASURY

Submission for OMB Review; Comment Request

October 19, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

Dates: Written comments should be received on or before November 25, 2011 to be assured of consideration.

Alcohol and Tabacco Tax and Trade Bureau (TTB)

OMB Number: 1513-0006.

Type of Review: Extension without change of a currently approved collection.

Title: Applications—Volatile Fruit-Flavor Concentrate Plants, TTB REC 5520/2.

Form: TTB F 5530.3.

Abstract: Persons who wish to establish premises to manufacture volatile fruit-flavor concentrates are required to file an application and keep records to support the manufacture of these concentrates. TTB uses the application information to identify persons responsible for such manufacture, since these products contain ethyl alcohol and have potential for use as alcoholic beverages with consequent loss of revenue. The application constitutes registry of a still, a statutory requirement. TTB uses the records to ensure that the concentrates are manufactured properly.

Respondents: Private Sector: Businesses or other for-profits.

Estimated Total Burden Hours: 160.

OMB Number: 1513-0022.

Type of Review: Extension without change of a currently approved collection.

Title: Annual Report of Concentrate Manufacturers and Usual and Customary Business Records-Volatile Fruit-Flavor Concentrate, TTB REC 5520/1.

Form: TTB F 5520.2.

Abstract: Manufacturers of volatile fruit-flavor concentrate must provide reports as necessary to ensure the protection of the revenue. The report and records accounts for all concentrates manufactured, removed, or treated so as to be unfit for beverage use. The information is required to verify that alcohol is not being diverted for beverage use which would jeopardize tax revenues.

Respondents: Private Sector: Businesses or other for-profits.

Estimated Total Burden Hours: 27.

OMB Number: 1513-0030.

Type of Review: Revision of a currently approved collection.

Title: Claim—Alcohol, Tobacco, and Firearms Taxes.

Form: TTB F 5620.8.

Abstract: This form is used by taxpayers to show the basis for a credit remission and allowance of tax on loss of taxable articles, to request a refund or abatement on taxes excessively or erroneously collected, and to request a drawback of tax paid on distilled spirits used in the production on non-beverage products.

Respondents: Private Sector: Not-for-profit institutions, Businesses or other for-profits; Individuals or Households.

Estimated Total Burden Hours: 10,000.

OMB Number: 1513-0053.

Type of Review: Revision of a currently approved collection.

Title: Report of Wine Premises Operations.

Form: TTB F 5120.17.

Abstract: This report is used to monitor wine operations, ensure collection of wine tax revenue, and ensure wine is produced in accordance with law and regulations. This report also provides raw data for TTB's monthly statistical release on wine.

Respondents: Private Sector: Businesses or other for-profits.

Estimated Total Burden Hours: 35,672.

OMB Number: 1513-0055.

Type of Review: Revision of a currently approved collection.

Title: Offer in Compromise of Liability Incurred Under Federal Alcohol Administration Act, as amended.

Form: TTB F 5640.2.

Abstract: Persons who have committed violations of the FAA Act may submit an offer in compromise. The offer is a request by the party in violation to compromise penalties for the violations in lieu of civil or criminal action. TTB F 5640.2 identifies the violation(s) to be compromised by the person committing them, amount of offer, plus justification for acceptance.

Respondents: Private Sector: Businesses or other for-profits.

Estimated Total Burden Hours: 24.

OMB Number: 1513-0065.

Type of Review: Extension without change of a currently approved collection.

Title: Wholesale Dealers Records of Receipt of Alcoholic Beverages, Disposition of Distilled Spirits, and Monthly Summary Report, TTB REC 5170/2.

Abstract: An accounting tool, this record is used to show the person from whom a wholesale dealer purchased alcoholic beverages, and the person to whom the dealer sold alcoholic beverages. When required, the monthly report will provide a report of sales activities and on-hand inventory quantities.

Respondents: Private Sector: Businesses or other for-profits.

Estimated Total Burden Hours: 1,200.

OMB Number: 1513-0094.

Type of Review: Revision of a currently approved collection.

Title: Federal Firearms and Ammunition Quarterly Excise Tax Return.

Form: 5300.26.

Abstract: This information is needed to determine how much tax is owed for firearms and ammunition. TTB uses this information to verify that a taxpayer has correctly determined and paid tax liability on the sale or use of firearms and ammunition. Businesses, including small to large, and individuals may be required to use this form.

Respondents: Private Sector: Businesses or other for-profits; Individuals and Households.

Estimated Total Burden Hours: 33,775.

OMB Number: 1513-0102.

Type of Review: Extension without change of a currently approved collection.

Title: Tobacco Bond—Collateral and Tobacco Bond-Surety.

Form: 5200.25; 5200.26.

Abstract: TTB requires a corporate surety bond or a collateral bond to ensure payment of the excise tax on tobacco products (TP) and cigarette paper and tubes (CP&T) removed from the factory or warehouse. These TTB forms identify the agreement to pay and the person from which TTB will attempt to collect any unpaid excise tax. Manufactures of TP or CP&T, export warehouse proprietors, and corporate sureties, if applicable, are the respondents for these forms.

Respondents: Private Sector: Businesses or other for-profits.

Estimated Total Burden Hours: 25.

Clearance Officer: Gerald Isenberg, Alcohol and Tobacco Tax and Trade Bureau, Room 200 East, 1310 G Street, NW., Washington, DC 20005; (202) 453-2165.

OMB Reviewer: Shagufta Ahmed, Office of Management and Budget, New Executive Office Building, Room 10235, Washington, DC 20503; (202) 395-7873.

Dawn D. Wolfgang,
Treasury PRA Clearance Officer.

[FR Doc. 2011-27519 Filed 10-24-11; 8:45 am]

BILLING CODE 4810-31-P